DEPARTMENT OF THE TREASURY

Office of Foreign Assets Control

Sanctions Actions Pursuant to Executive Orders 13660, 13661, 13662, and 13685.

AGENCY: Office of Foreign Assets Control, Treasury.

ACTION: Notice.

SUMMARY: The Treasury Department's Office of Foreign Assets Control (OFAC) is publishing the names of one hundred thirty-three persons whose property and interests in property are blocked pursuant to one or more of the following authorities: Executive Order (E.O.) 13660, E.O. 13661, and E.O. 13685, or who are subject to the prohibitions of one or more directives under E.O. 13662.

DATES: OFAC's actions described in this notice were effective on September 1, 2016, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac). A complete listing of persons determined to be subject to one or more directives under E.O. 13662, as discussed in detail in this Notice, can be found in the Sectoral Sanctions Identifications List at http://www.treasury.gov/resource-center/sanctions/SDN-List/Pages/ssi_list.aspx.

Notice of OFAC Actions

On September 1, 2016, OFAC blocked the property and interests in property of the following persons pursuant to E.O. 13660, “Blocking Property of Certain Persons Contributing to the Situation in Ukraine”:

Individuals

1. ANYUKHINA, Anna Vladimirovna; DOB 14 Jan 1985; POB Naidyonovka, Crimean Oblast, Ukraine (individual) [UKRAINE-E.O. 13660].

2. BORODULINA, Svetlana Alekseevna; DOB 20 Dec 1973; POB Moscow, Russia (individual) [UKRAINE-E.O. 13660].

3. DEMIDOV, Valentin Valentinovich (a.k.a. DEMYDOV, Valentyn); DOB 28 Nov 1976; POB Petrovsky-Dobrinsky Region, Lipestkoy Oblast, Ukraine (individual) [UKRAINE-E.O. 13660].

4. KIVIKO, Irina Valerievna; DOB 05 Sep 1970 (individual) [UKRAINE-E.O. 13660].

5. MURADOV, Georgiy L'vovich; DOB 19 Nov 1954; POB Kochmes, Komi, Russia (individual) [UKRAINE-E.O. 13660].

6. NAZAROV, Mikhail Anatolievich; DOB 1965 (individual) [UKRAINE-E.O. 13660].

7. PALAGIN, Viktor Nikolayevich; DOB 02 Dec 1956 (individual) [UKRAINE-E.O. 13660].

8. POLONSKY, Dmitry Anatolievich; DOB 02 Aug 1981; POB Simferopol, Ukraine (individual) [UKRAINE-E.O. 13660].

9. SHAPOVALOV, Oleg Georgievich; DOB 17 Jul 1959; POB Nikopol, Dnepropetrovsk Oblast, Ukraine (individual) [UKRAINE-E.O. 13660].

10. SHEREMET, Mikhail Sergeyevich; DOB 23 May 1971; POB Dzhankoy, Ukraine (individual) [UKRAINE-E.O. 13660].

11. VASYUTA, Andrey Gennadievich; DOB 07 Mar 1965; POB Simferopol, Ukraine (individual) [UKRAINE-E.O. 13660].

12. BASURIN, Eduard (a.k.a. BASURIN, Eduard Aleksandrovich); DOB 27 Jun 1966; POB Donetsk, Ukraine (individual) [UKRAINE-E.O. 13660].

13. ISMAILOV, Zaur; DOB 25 Jul 1975; alt. DOB 25 Jul 1978; POB Krasny Luch, Voroshilovgrad, Ukraine (individual) [UKRAINE-E.O. 13660].

14. KONONOV, Vladimir (a.k.a. KONONOV, Vladimir P.; a.k.a. KONONOV, Vladimir Petrovich; a.k.a. KONONOV, Volodimir); DOB 14 Oct 1974 (individual) [UKRAINE-E.O. 13660].

15. MANUILOV, Evgeny (a.k.a. MANUILOV, Evgeny Vladimirovich; a.k.a. MANUILOV, Yevgeny); DOB 05 Jan 1967 (individual) [UKRAINE-E.O. 13660].

16. SHUBIN, Alexandr (a.k.a. SHUBIN, Aleksandr; a.k.a. SHUBIN, Alexandr Vasilievich); DOB 20 May 1972; POB Luhansk, Ukraine (individual) [UKRAINE-E.O. 13660].

17. YATSENKO, Viktor (a.k.a. YATSENKO, Victor V.; a.k.a. YATSENKO, Victor Vyacheslavovich); DOB 22 Apr 1985 (individual) [UKRAINE-E.O. 13660].

Entity

1. SALVATION COMMITTEE OF UKRAINE (a.k.a. COMMITTEE FOR THE RESCUE OF UKRAINE; a.k.a. SAVIOR OF UKRAINE COMMITTEE; a.k.a. UKRAINE SALVATION COMMITTEE), Russia; Web site http://comitet.su/about/; Email Address comitet@comitet.su; alt. Email Address komitet_2015@yahoo.com [UKRAINE-E.O. 13660] (Linked To: AZAROV, Mykola Yanovych).

On September 1, 2016, OFAC blocked the property and interests in property of the following person pursuant to E.O. 13661, “Blocking Property of Additional Persons Contributing to the Situation in Ukraine”:

Entity

1. CJSC ABR MANAGEMENT (a.k.a. ABR MANAGEMENT CJSC; a.k.a. ZAKRYTOE AKTSIONERNOE OBSHCHESTVO ABR MANAGEMENT; a.k.a. “ABR”), 2 Liter A, Rastrelli Sq, St. Petersburg 191124, Russia; Ulitsa Graftio, Dom 7, Liter A, St. Petersburg 197022, Russia [UKRAINE-E.O. 13661] (Linked To: BANK ROSSIYA).

On September 1, 2016, OFAC published the following revised information for the following person on OFAC's Specially Designated Nationals and Blocked Persons List (SDN List) whose property and interests in property are blocked pursuant to E.O. 13661, “Blocking Property of Additional Persons Contributing to the Situation in Ukraine”:

Entity

1. BANK ROSSIYA (a.k.a. AB ROSSIYA, OAO; f.k.a. AKTSIONERNY BANK RUSSIAN FEDERATION; a.k.a. OTKRYTOE AKTSIONERNOE OBSHCHESTVO AKTSIONERNY BANK ROSSIYA), 2 Liter A Pl. Rastrelli, Saint Petersburg 191124, Russia; SWIFT/BIC ROSY RU 2P; Web site www.abr.ru; Email Address bank@abr.ru; Registration ID 1027800000084 (Russia); Tax ID No. 7831000122 (Russia); Government Gazette Number 09804148 (Russia) [UKRAINE-E.O. 13661].

On September 1, 2016, OFAC blocked the property and interests in property of the following persons pursuant to E.O. 13685, “Blocking Property of Certain Persons and Prohibiting Certain Transactions With Respect to the Crimea Region of Ukraine”:

Entities

1. CJSC SOVMORTRANS (a.k.a. SOVMORTRANS CJSC), Rakhmanovskiy lane, 4, bld.1, Morskoy House, Moscow 127994, Russia; Email Address smt@sovmortrans.com [UKRAINE-E.O. 13685].

2. LLC KOKSOKHIMTRANS (a.k.a. KOKSOKHIMTRANS LTD.), Rakhmanovskiy lane, 4, bld.1, Morskoy House, Moscow 127994, Russia [UKRAINE-E.O. 13685].

3. OJSC SOVFRACHT (a.k.a. PJSC `SOVFRACHT'; a.k.a. SOVFRACHT JSC; a.k.a. SOVFRAKHT), Rakhmanovskiy lane, 4, bld.1, Morskoy House, Moscow 127994, Russia; Email Address general@sovfracht.ru [UKRAINE-E.O. 13685].

4. SMT-K (a.k.a. KRYM SMT OOO LLC; a.k.a. LLC CMT CRIMEA; a.k.a. OOO `CMT-K'; a.k.a. OOO `SMT-K'; a.k.a. SMT-CRIMEA; a.k.a. SOVMORTRANS-CRIMEA), ul. Zoi Zhiltsovoy, d. 15, office 51, Simferopol, Crimea, Ukraine; Vokzalnoye Highway 140, Kerch, Ukraine; Anapskoye Highway 1, Temryuk, Russia; Email Address info@smt-k.ru; alt. Email Address info@parom-k.ru [UKRAINE-E.O. 13685].

5. SOVFRACHT MANAGING COMPANY LLC (a.k.a. LLC SOVFRACHT MANAGEMENT COMPANY; a.k.a. MANAGEMENT COMPANY SOVFRAKHT LTD; a.k.a. SOVFRACHT MANAGEMENT COMPANY; a.k.a. SOVFRACHT MANAGEMENT COMPANY LLC), Dobroslobodskaya, 3 BC Basmanov, Moscow 105066, Russia; Email Address general@sovfracht.ru [UKRAINE-E.O. 13685].

6. SOVFRACHT-SOVMORTRANS GROUP (a.k.a. SOVFRACHT-SOVMORTRANS; a.k.a. SOVFRAKHT-SOVMORTRANS), Rakhmanovskiy lane, 4, bld.1, Morskoy House, Moscow 127994, Russia; Dobroslobodskaya, 3 BC Basmanov, Moscow 105066, Russia [UKRAINE-E.O. 13685].

7. PJSC MOSTOTREST (a.k.a. MOSTOTREST; a.k.a. MOSTOTREST, PAO; a.k.a. OPEN JOINT STOCK COMPANY `MOSTOTREST'; a.k.a. PUBLIC JOINT STOCK COMPANY MOSTOTREST), 6 Barklaya str., bld. 5, Moscow 121087, Russia; d. 6 str. 5, ul. Barklaya, Moscow 121087, Russia; Web site www.mostro.ru; Email Address pressa@mostro.ru; MICEX Code MSTT; Registration ID 1027739167246 (Russia); Tax ID No. 7701045732 (Russia); Identification Number ISIN: RU0009177331; Government Gazette Number 01386148 (Russia) [UKRAINE-E.O. 13685].

8. SGM MOST OOO (f.k.a. OBSHCHESTVO S OGRANICHENNOI OTVETSTVENNOSTYU SGM MOST; a.k.a. OBSHCHESTVO S OGRANICHENNOI OTVETSTVENNOSTYU `SGM-MOST'; a.k.a. SGM-BRIDGE; a.k.a. SGM-MOST LLC), d. 10 korp. 3 ul. Neverovskogo, Moscow 121170, Russia; Registration ID 1157746088170 (Russia); Tax ID No. 7730018980 (Russia); Government Gazette Number 29170220 (Russia) [UKRAINE-E.O. 13685].

9. FEDERAL SUE SHIPYARD `MORYE' (a.k.a. FEDERAL STATE UNITARY ENTERPRISE SZ MORYE; a.k.a. FSUE SZ `MORYE'; a.k.a. MORYE SHIPYARD; a.k.a. “MORE SHIPYARD”), 1 Desantnikov Street, Feodosia, Crimea 98176, Ukraine; Web site http://moreship.ru/; Email Address office@moreship.ru [UKRAINE-E.O. 13685].

10. OAO `URANIS-RADIOSISTEMY' (a.k.a. OJSC `URANIS RADIO SYSTEMS'; a.k.a. OJSC URANIS-RADIOSISTEMY; a.k.a. URANIS-RADIOSISTEMY OAO), 33 G, Vakulenchuk Street, Sevastopol, Crimea 99053, Ukraine; Web site www.uranis.net; Email Address uranis@uranis.net; alt. Email Address info@uranis.net; alt. Email Address vlad_k@uranis.net; Registration ID 1149204003233; Tax ID No. 9201001120 [UKRAINE-E.O. 13685].

11. OAO SHIP REPAIR CENTER `ZVEZDOCHKA' (a.k.a. `ZVEZDOCHKA' SHIPYARD; a.k.a. AO SHIP REPAIR CENTER `ZVEZDOCHKA'; a.k.a. JOINT STOCK COMPANY SHIP REPAIR CENTER `ZVEZDOCHKA'; a.k.a. SHIP REPAIR CENTER ZVEZDOCHKA), 12, proyezd Mashinostroiteley, Severodvinsk, Arkhangelskaya Oblast 164509, Russia; 13 Geroyev Sevastopolya Street, Sevastopol, Crimea 99001, Ukraine; Web site www.star.ru; alt. Web site http://starsmz.ru/; alt. Web site http://sevmorzavod.com/; Email Address info@star.ru; alt. Email Address star_sev@mail.ru; alt. Email Address office@smp.com.ua; Registration ID 1082902002677 (Russia); Tax ID No. 2902060361 (Russia) [UKRAINE-E.O. 13685].

12. OOO SHIPYARD `ZALIV' (f.k.a. AO SHIPYARD `ZALIV'; f.k.a. JSC SHIPYARD `ZALIV'; f.k.a. JSC ZALIV SHIPYARD; a.k.a. LLC SHIPYARD `ZALIV'; f.k.a. OJSC ZALIV SHIPYARD; a.k.a. ZALIV SHIPYARD LLC), 4 Tankistov Street, Kerch, Crimea 98310, Ukraine; Web site http://www.zalivkerch.com/; alt. Web site http://www.zaliv.com/; Email Address zaliv@zalivkerch.com [UKRAINE-E.O. 13685].

13. SUE RC `FEODOSIA OPTICAL PLANT' (a.k.a. FE.O. DOSIA STATE OPTICAL PLANT; a.k.a. STATE OPTICAL PLANT—FE.O. DOSIA), Feodosia State Optical Plant, 11 Moskovskaya Street, Feodosia, Crimea 98100, Ukraine; Web site http://www.fkoz.feodosia.com.ua/; Email Address optic_plant_sbut@bk.ru [UKRAINE-E.O. 13685].

14. FAU `GLAVGOSEKSPERTIZA ROSSII' (a.k.a. FEDERAL AUTONOMOUS INSTITUTION `MAIN DIRECTORATE OF STATE EXAMINATION'; a.k.a. GENERAL BOARD OF STATE EXPERT REVIEW; a.k.a. GLAVGOSEKSPERTIZA), Furkasovskiy Lane, building 6, Moscow 101000, Russia; 13 Demidova Street, Sevastopol, Crimea, Ukraine; 10 Vokzalnaya Street, Sevastopol, Crimea, Ukraine; Web site http://gge.ru; Email Address info@gge.ru [UKRAINE-E.O. 13685].

15. FKU UPRDOR `TAMAN' (a.k.a. FEDERAL STATE INSTITUTION MANAGEMENT OF FEDERAL ROADS `TAMAN'), 3 Revolution Avenue, Anapa, Krasnodar 353440, Russia; Web site http://fkutaman.ru/; Email Address office@fkutaman.ru [UKRAINE-E.O. 13685].

16. AO `INSTITUTE GIPROSTROYMOST—SAINT-PETERSBURG' (a.k.a. AO `INSTITUTE GIPROSTROYMOST—SANKT-PETERBURG'; f.k.a. INSTITUT GIPROSTROIMOST—SANKT-PETERBURG, ZAO; a.k.a. JSC `INSTITUTE GIPROSTROYMOST—SAINT-PETERSBURG'; a.k.a. JSC `INSTITUTE GIPROSTROYMOST—SANKT-PETERBURG'; f.k.a. ZAO `INSTITUTE GIPROSTROYMOST—SAINT-PETERSBURG'), 7 Yablochkova Street, St. Petersburg 197198, Russia; Web site www.gpsm.ru; Email Address office@gpsm.ru; Registration ID 1037828021660 (Russia); Tax ID No. 7826717210 (Russia); Government Gazette Number 53289443 (Russia) [UKRAINE-E.O. 13685].

17. OOO `DSK' (a.k.a. OOO `DOROZHNAYA STROITELNAYA KOMPANIA'), Stroitelnaya Street, 34, village of Kesova Gora, Tver Oblast 171470, Russia; Web site http://dorstroycom.ru; Email Address dsk@dorstroycom.ru; alt. Email Address secretar@dorstroycom.ru; Registration ID 1036906000922 (Russia) [UKRAINE-E.O. 13685].

18. OOO `STG-EKO' (a.k.a. `STG-EKO' LLC), Street Zastavskaya Building 22, Part A, Saint Petersburg 196084, Russia; Web site http://www.stg-eco.ru/; Email Address info@stg-eco.ru; alt. Email Address info.rb@stg-eco.ru; Registration ID 1097847009215 (Russia); Tax ID No. 7816458415 (Russia) [UKRAINE-E.O. 13685].

On September 1, 2016, OFAC determined that the Bank of Moscow owns, directly or indirectly, a 50 percent or greater interest in the following persons. As such, these persons are subject to the prohibitions of Directive 1 (as amended) of September 12, 2014, issued pursuant to E.O. 13662, “Blocking Property of Additional Persons Contributing to the Situation in Ukraine” and 31 CFR 589.406 and 589.802, and following the Secretary of the Treasury's determination pursuant to section l(a)(i) of E.O. 13662 with respect to the financial services sector of the Russian Federation economy.

Entities

1. AUTOMATED BANKING TECHNOLOGIES CJSC (a.k.a. CJSC ‘AUTOMATED BANKING TECHNOLOGIES'; a.k.a. JOINT STOCK COMPANY ‘AVTOMATIZIROVANNYYEE BANKOVSKIYE TEKHNOLOGII'; a.k.a. ZAO ‘AVTOMATIZIROVANNIY BANKOVSKIY TECHNOLOGII'), Street Pushechnaya, D. 5, G., Moscow 107031, Russia; Executive Order 13662 Directive Determination—Subject to Directive 1; Tax ID No. 7702026595 (Russia); For more information on directives, please visit the following link: http://www.treasury.gov/resource-center/sanctions/Programs/Pages/ukraine.aspx#directives [UKRAINE-E.O. 13662] (Linked To: BANK OF MOSCOW).

2. BM BANK PUBLIC JOINT STOCK COMPANY (f.k.a. BM BANK LLC; a.k.a. BMBANK JSC; a.k.a. PUBLICHNOYE JOINT-STOCK COMPANY ‘BM BANK'; a.k.a. “LLC BM BANK”), 37/122 T. Shevchenko bld, Kyiv 01032, Ukraine; SWIFT/BIC BMLT UA UK; Web site http://www.bmbank.com.ua; Email Address bank@bmbank.com.ua; Executive Order 13662 Directive Determination—Subject to Directive 1; All offices worldwide; for more information on directives, please visit the following link: https://www.treasury.gov/resource-center/sanctions/Programs/Pages/ukraine.aspx#directives [UKRAINE-E.O. 13662] (Linked To: BANK OF MOSCOW).

3. BM HOLDING AG (a.k.a. BM HOLDING LTD; a.k.a. BM HOLDING SA), C/O Treureva AG, Muhlebachstrasse 23, Zurich 8024, Switzerland; Chamerstrasse 172, P.O. Box, Zug CH-6300, Switzerland; Executive Order 13662 Directive Determination—Subject to Directive 1; For more information on directives, please visit the following link: https://www.treasury.gov/resource-center/sanctions/Programs/Pages/ukraine.aspx#directives [UKRAINE-E.O. 13662] (Linked To: BANK OF MOSCOW).

4. BM PROEKT, OOO (a.k.a. BM PROJECT LLC; a.k.a. LIMITED LIABILITY COMPANY ‘BM PROYEKT'; a.k.a. OBSHCHESTVO S ORGRANICHENNOI OTVETSTVENNOSTYU `BM PROEKT'; a.k.a. OOO BM PROECKT; a.k.a. “LLC BM PROJECT”), 8/15, str. 3 ul. Rozhdestvenka, Moscow 107996, Russia; Executive Order 13662 Directive Determination—Subject to Directive 1; Registration ID 5117746015624 (Russia); Tax ID No. 7702777873 (Russia); Government Gazette Number 37319127 (Russia); For more information on directives, please visit the following link: https://www.treasury.gov/resource-center/sanctions/Programs/Pages/ukraine.aspx#directives [UKRAINE-E.O. 13662] (Linked To: BANK OF MOSCOW).

5. BM-DIREKTSIYA, OOO (a.k.a. BM DIREKTSIYA LLC; a.k.a. LIMITED LIABILITY COMPANY ‘BM-DIREKTSIYA'; a.k.a. OBSHCHESTVO S ORGANICHENNOI OTVETSTVENNOSTYU `BM-DIREKTSIYA'; a.k.a. OOO `BM-DIREKTSIYA'), 8/15 str. 3 ul. Rozhdestvenka, Moscow 107996, Russia; Executive Order 13662 Directive Determination—Subject to Directive 1; Registration ID 1117746628185; Tax ID No. 7702768727; Government Gazette Number 30162881; For more information on directives, please visit the following link: https://www.treasury.gov/resource-center/sanctions/Programs/Pages/ukraine.aspx#directives [UKRAINE-E.O. 13662] (Linked To: BANK OF MOSCOW).

6. BOM ASSET MANAGEMENT LTD, Arc. Makariou 2-4, Capital center, 9th floor, index 1065, Nicosia, Cyprus; Executive Order 13662 Directive Determination—Subject to Directive 1; For more information on directives, please visit the following link: https://www.treasury.gov/resource-center/sanctions/Programs/Pages/ukraine.aspx#directives [UKRAINE-E.O. 13662] (Linked To: BANK OF MOSCOW).

7. BOM FINANCE LTD, 2nd Floor Vanterpool Plaza, Wickhams Cay 1, Road Town, Virgin Islands, British; Executive Order 13662 Directive Determination—Subject to Directive 1; For more information on directives, please visit the following link: https://www.treasury.gov/resource-center/sanctions/Programs/Pages/ukraine.aspx#directives [UKRAINE-E.O. 13662] (Linked To: BANK OF MOSCOW).

8. BOM PROJECT FINANCING LTD (a.k.a. BOM PROJECT FINANCING LIMITED), 14th Floor, Papachristoforu Building, 32 Kritis Street, Limassol, Cyprus; Executive Order 13662 Directive Determination—Subject to Directive 1; For more information on directives, please visit the following link: https://www.treasury.gov/resource-center/sanctions/Programs/Pages/ukraine.aspx#directives [UKRAINE-E.O. 13662] (Linked To: BANK OF MOSCOW).

9. BPO PECHATNIKI, OAO (a.k.a. OPEN JOINT STOCK COMPANY ‘BUMAZHNO-POLIGRAFICHESKOYE OBYEDINENIYE ‘PECHATNIKI'; a.k.a. OTKRYTOE AKTSIONERNOE OBSHCHESTVO `BUMAZHNO-POLIGRAFICHESKOE OBEDINENIE `PECHATNIKI'), d. 53, ul. Ryabinovaya, Moscow 121471, Russia; D. 4, Brodnikov Per., Moscow 119180, Russia; Executive Order 13662 Directive Determination—Subject to Directive 1; Registration ID 1087746844240; Tax ID No. 7706694089; Government Gazette Number 87562873; For more information on directives, please visit the following link: https://www.treasury.gov/resource-center/sanctions/Programs/Pages/ukraine.aspx#directives [UKRAINE-E.O. 13662] (Linked To: BANK OF MOSCOW).

10. CROSSPLANET LTD, 196/Themistokli Dervi, 3 Julia House, Nicosia 1066, Cyprus; Executive Order 13662 Directive Determination—Subject to Directive 1; For more information on directives, please visit the following link: https://www.treasury.gov/resource-center/sanctions/Programs/Pages/ukraine.aspx#directives [UKRAINE-E.O. 13662] (Linked To: BANK OF MOSCOW).

11. EESTI KREDIIDIPANK AS (a.k.a. AS EESTI KREDIIDIPANK; a.k.a. ESTONIAN CREDIT BANK; a.k.a. JOINT-STOCK COMPANY EESTI KREDIDIPANK), Narve Road 4, Tallinn 15014, Estonia; SWIFT/BIC EKRD EE 22; Web site http://www.krediidipank.ee; Executive Order 13662 Directive Determination—Subject to Directive 1; All offices worldwide; for more information on directives, please visit the following link: https://www.treasury.gov/resource-center/sanctions/Programs/Pages/ukraine.aspx#directives [UKRAINE-E.O. 13662] (Linked To: BANK OF MOSCOW).

12. FINANSOVY ASSISTENT CJSC (a.k.a. CJSC ‘FINANSOVY ASSISTANT'; a.k.a. ZAO ‘FINANSOVY ASSISTANT'), d. 4/10 str. 1 ul. Sadovaya-Triumphalnaya, Moscow, Russia; Executive Order 13662 Directive Determination—Subject to Directive 1; For more information on directives, please visit the following link: https://www.treasury.gov/resource-center/sanctions/Programs/Pages/ukraine.aspx#directives [UKRAINE-E.O. 13662] (Linked To: BANK OF MOSCOW).

13. LESPROMPROTSESSING, ZAO (a.k.a. CJSC LESPROMPROCESSING; a.k.a. CLOSED JOINT-STOCK COMPANY ‘LESPROMPROCESSING'; a.k.a. LESPROMPROCESSING CJSC; f.k.a. LIKVIDATSIONNAYA KOMISSIYA ZAO ‘LESPROMPROTSESSING' (RESHENIE O LIKVIDATSII I O LIKVIDATORE)), d. 13 str. 2 per. Bolshoi Sukharevski, Moscow 127051, Russia; B. Sucharevsky per, 13 str. 2, 21, Moscow, Russia; Executive Order 13662 Directive Determination—Subject to Directive 1; Registration ID 1077764064905 (Russia); Government Gazette Number 84130506; For more information on directives, please visit the following link: https://www.treasury.gov/resource-center/sanctions/Programs/Pages/ukraine.aspx#directives [UKRAINE-E.O. 13662] (Linked To: BANK OF MOSCOW).

14. LLC BALTECH (a.k.a. BALTECH LLC; a.k.a. OOO ‘BALTECH'), Russia; Executive Order 13662 Directive Determination—Subject to Directive 1; For more information on directives, please visit the following link: https://www.treasury.gov/resource-center/sanctions/Programs/Pages/ukraine.aspx#directives [UKRAINE-E.O. 13662] (Linked To: BANK OF MOSCOW).

15. MEZHDUNARODNAYA UPRAVLYAYUSHCHAYA KOMPANIYA, AO (f.k.a. AKTSIONERNOE OBSHCHESTVO MEZHDUNARODNAYA UPRAVLYAYUSHCHAYA KOMPANIYA; a.k.a. AKTSIONERNOE OBSHCHESTVO ‘MEZHDUNARODNAYA UPRAVLYAYUSHCHAYA KOMPANIYA'; a.k.a. INTERNATIONAL MANAGEMENT COMPANY OJSC; a.k.a. JOINT STOCK COMPANY ‘MEZHDUNARODNAYA UPRAVLYAYUSHCHAYA KOMPANIYA'; a.k.a. OJSC INTERNATIONAL MANAGEMENT COMPANY), d. 13/2 ul. Begovaya, Moscow 125284, Russia; Executive Order 13662 Directive Determination—Subject to Directive 1; Registration ID 1027714019772 (Russia); Tax ID No. 7714283773 (Russia); Government Gazette Number 59709936 (Russia); For more information on directives, please visit the following link: https://www.treasury.gov/resource-center/sanctions/Programs/Pages/ukraine.aspx#directives [UKRAINE-E.O. 13662] (Linked To: BANK OF MOSCOW).

16. OPEN JOINT STOCK COMPANY CHAYKA (a.k.a. CHAIKA OJSC; a.k.a. OAO CHAIKA; a.k.a. PJSC CHAIKA), Russia; Turchaninov Per., D. 3, BLDG 1, G., Moscow 119034, Russia; Executive Order 13662 Directive Determination—Subject to Directive 1; Tax ID No. 7704021200 (Russia); For more information on directives, please visit the following link: https://www.treasury.gov/resource-center/sanctions/Programs/Pages/ukraine.aspx#directives [UKRAINE-E.O. 13662] (Linked To: BANK OF MOSCOW).

17. RIELTSITI, OOO (a.k.a. LIMITED LIABILITY COMPANY ‘RIELTSITI'; a.k.a. OBSHCHESTVO S GRANICHENNOI OTVETSTVENNOSTYU `RIELTSITI'; a.k.a. OOO ‘REALTCITY'; a.k.a. “REALTCITY LLC”; a.k.a. “REALT-CITY LLC”), d. 9, str. 5 ul. Krasnoproletarskaya, Moscow 127030, Russia; Per Uglovoy, D. 2, ETAZH 10, Room 22, Room 3, Moscow 127055, Russia; Executive Order 13662 Directive Determination—Subject to Directive 1; Registration ID 1127746617008 (Russia); Tax ID No. 7707782490; Government Gazette Number 11365058; For more information on directives, please visit the following link: https://www.treasury.gov/resource-center/sanctions/Programs/Pages/ukraine.aspx#directives [UKRAINE-E.O. 13662] (Linked To: BANK OF MOSCOW).

18. SG MSK, AO (a.k.a. AKTSIONERNOE OBSHCHESTVO `STRAKHOVAYA GRUPPA MSK'; a.k.a. OAO ‘STRACHOVAIYA GRUPPA MSK'; a.k.a. OPEN JOINT STOK COMPANY `INSURANCE GROUP MCK'; a.k.a. PJSC ‘INSURANCE GROUP MSK'), d. 40, ul. Dolgorukovskaya, Moscow 127006, Russia; Web site http://sgmsk.ru/about/raskrytie-informacii/oao-sg-msk; Email Address root@oasopsk.kazan.ru; Executive Order 13662 Directive Determination—Subject to Directive 1; Registration ID 1021602843470 (Russia); Tax ID No. 1655006421 (Russia); Government Gazette Number 23333017 (Russia); For more information on directives, please visit the following link: https://www.treasury.gov/resource-center/sanctions/Programs/Pages/ukraine.aspx#directives [UKRAINE-E.O. 13662] (Linked To: BANK OF MOSCOW).

19. UNITED COMPANY OJSC (a.k.a. OAO ‘OBIDINENAIYA KOMANIYA'; a.k.a. OJSC UNITED COMPANY; a.k.a. PJSC ‘UNITED COMPANY'), St. Petersburg 192177, Russia; ul. Ryabinovaya d. 53, Moscow 121471, Russia; Executive Order 13662 Directive Determination—Subject to Directive 1; For more information on directives, please visit the following link: https://www.treasury.gov/resource-center/sanctions/Programs/Pages/ukraine.aspx#directives [UKRAINE-E.O. 13662] (Linked To: BANK OF MOSCOW).

On September 1, 2016, OFAC determined that Gazprombank OAO owns, directly or indirectly, a 50 percent or greater interest in the following persons. As such, these persons are subject to the prohibitions of Directive 1 (as amended) of September 12, 2014, issued pursuant to E.O. 13662, “Blocking Property of Additional Persons Contributing to the Situation in Ukraine” and 31 CFR 589.406 and 589.802, and following the Secretary of the Treasury's determination pursuant to section l(a)(i) of E.O. 13662 with respect to the financial services sector of the Russian Federation economy.

Entities

1. AREXIMBANK-GAZPROMBANK GROUP CJSC (a.k.a. ARMENIAN-RUSSIAN EXPORT-IMPORT BANK-GAZPROMBANK GROUP CLOSED JOINT-STOCK COMPANY), 12 M. Mkrtchyan Street, Yerevan 375010, Armenia; 6-10 Northern Ave., Yerevan 0001, Armenia; SWIFT/BIC RKASAM22; Web site www.areximbank.am; Executive Order 13662 Directive Determination—Subject to Directive 1; Tax ID No. 02540791; All offices worldwide; for more information on directives, please visit the following link: http://www.treasury.gov/resource-center/sanctions/Programs/Pages/ukraine.aspx#directives [UKRAINE-E.O. 13662] (Linked To: GAZPROMBANK OAO).

2. CENTREX EUROPE ENERGY AND GAS AG (a.k.a. CENTREX EUROPE ENERGY & GAS AG), Wiedner Hauptstrasse 17, Vienna 1040, Austria; Web site www.centrex.com; Executive Order 13662 Directive Determination—Subject to Directive 1; Registration ID FN 230884k; For more information on directives, please visit the following link: https://www.treasury.gov/resource-center/sanctions/Programs/Pages/ukraine.aspx#directives [UKRAINE-E.O. 13662] (Linked To: GAZPROMBANK OAO).

3. CREDIT URAL BANK (a.k.a. BANK KUB AO; a.k.a. CREDIT URAL BANK JOINT-STOCK COMPANY; a.k.a. KREDIT URAL BANK OTKRYTOE AKTSIONERNOE OBSHCHESTVO; a.k.a. “KUB OAO”), Street Gagarina 17, Magnitogorsk 455044, Russia; SWIFT/BIC CRDURU4C; Web site www.creditural.ru; Executive Order 13662 Directive Determination—Subject to Directive 1; Registration ID 1027400000638; Tax ID No. 7414006722; All offices worldwide; for more information on directives, please visit the following link: https://www.treasury.gov/resource-center/sanctions/Programs/Pages/ukraine.aspx#directives [UKRAINE-E.O. 13662] (Linked To: GAZPROMBANK OAO).

4. GAZKARDSERVIS OOO (a.k.a. LIMITED LIABILITY COMPANY GAZKARDSERVIS), Obrucheva Street, Building 27, Corpus 2, Moscow 117630, Russia; Executive Order 13662 Directive Determination—Subject to Directive 1; Registration ID 1027739027634; Tax ID No. 7724199506; For more information on directives, please visit the following link: https://www.treasury.gov/resource-center/sanctions/Programs/Pages/ukraine.aspx#directives [UKRAINE-E.O. 13662] (Linked To: GAZPROMBANK OAO).

5. GAZPROM MEDIA HOLDING (a.k.a. JOINT-STOCK COMPANY GAZPROM-MEDIA HOLDING; a.k.a. JSC GAZPROM-MEDIA HOLDING), Rochdelskaya street building 20, Moscow 123022, Russia; Krasnopresnenskaia nab. 12, CMT2, Porch 7, Floor 10, Moscow 123610, Russia; Profsoyuznaya Street, Building 125A, Moscow 117647, Russia; Web site www.gazprom-media.com; Executive Order 13662 Directive Determination—Subject to Directive 1; Registration ID 5087746018960; Tax ID No. 7728668727; For more information on directives, please visit the following link: https://www.treasury.gov/resource-center/sanctions/Programs/Pages/ukraine.aspx#directives [UKRAINE-E.O. 13662] (Linked To: GAZPROMBANK OAO).

6. GAZPROMBANK (SWITZERLAND) LTD, Zollikerstrasse 183, Zurich 8008, Switzerland; Zollikerstrasse 183, Zurich 8032, Switzerland; SWIFT/BIC RKBZCHZZ; Web site www.gazprombank.ch; Executive Order 13662 Directive Determination—Subject to Directive 1; All offices worldwide; for more information on directives, please visit the following link: https://www.treasury.gov/resource-center/sanctions/Programs/Pages/ukraine.aspx#directives [UKRAINE-E.O. 13662] (Linked To: GAZPROMBANK OAO).

7. GAZPROMBANK LATIN AMERICA VENTURES BV, Dijsselhofplantsoen 14, Amsterdam, Noord-Holland 1077, Netherlands; Executive Order 13662 Directive Determination—Subject to Directive 1; Registration ID 52285421; For more information on directives, please visit the following link: https://www.treasury.gov/resource-center/sanctions/Programs/Pages/ukraine.aspx#directives [UKRAINE-E.O. 13662] (Linked To: GAZPROMBANK OAO).

8. GAZPROMBANK LEASING ZAO (a.k.a. CLOSED JOINT-STOCK COMPANY GAZPROMBANK LIZING), Proektiruyemiy proezd No 4062, building 6, structure 16, BTs ‘Port Plaza', Moscow 115432, Russia; D.40 Ulitsa Miklukho-Maklaya, Moscow 117342, Russia; Web site www.gpbl.ru; Executive Order 13662 Directive Determination—Subject to Directive 1; Registration ID 1037728033606; Tax ID No. 7728294503; For more information on directives, please visit the following link: https://www.treasury.gov/resource-center/sanctions/Programs/Pages/ukraine.aspx#directives [UKRAINE-E.O. 13662] (Linked To: GAZPROMBANK OAO).

9. GAZPROMBANK UPRAVLENIE AKTIVAMI (a.k.a. CLOSED JOINT-STOCK COMPANY GAZPROMBANK-UPRAVLENIE AKTIVAMI; a.k.a. GAZPROMBANK ASSET MANAGEMENT ZAO), 63 Novocheremushkinskaya Street, Moscow 117418, Russia; Koroviy val., building 7, Moscow 119049, Russia; Executive Order 13662 Directive Determination—Subject to Directive 1; Registration ID 1047796382920; Tax ID No. 7722515837; For more information on directives, please visit the following link: https://www.treasury.gov/resource-center/sanctions/Programs/Pages/ukraine.aspx#directives [UKRAINE-E.O. 13662] (Linked To: GAZPROMBANK OAO).

10. GPB FINANCIAL SERVICES LIMITED, Arianthi Court, 2nd floor, 50 Agias Zonis Street, Limassol 3090, Cyprus; Agios Athanasios, 46, Interlink Hermes Plaza, Floor 1, Limassol 4102, Cyprus; Web site www.gpbfs.com.cy; Executive Order 13662 Directive Determination—Subject to Directive 1; Registration ID HE 246301; For more information on directives, please visit the following link: https://www.treasury.gov/resource-center/sanctions/Programs/Pages/ukraine.aspx#directives [UKRAINE-E.O. 13662] (Linked To: GAZPROMBANK OAO).

11. GPB GLOBAL RESOURCES BV, Dijsselhofplantsoen 14, Amsterdam 1077 BL, Netherlands; Web site www.gpb-gr.com; Executive Order 13662 Directive Determination—Subject to Directive 1; Registration ID 53240162; For more information on directives, please visit the following link: https://www.treasury.gov/resource-center/sanctions/Programs/Pages/ukraine.aspx#directives [UKRAINE-E.O. 13662] (Linked To: GAZPROMBANK OAO).

12. GPB INTERNATIONAL SA, 8-10, rue Mathias Hardt, Luxembourg 1717, Luxembourg; Web site http://www.gazprombank.ru/eng/group/banks/299515/; Executive Order 13662 Directive Determination—Subject to Directive 1; Registration ID B178974; For more information on directives, please visit the following link: https://www.treasury.gov/resource-center/sanctions/Programs/Pages/ukraine.aspx#directives [UKRAINE-E.O. 13662] (Linked To: GAZPROMBANK OAO).

13. GPB INVEST OOO (a.k.a. LIMITED LIABILITY COMPANY GAZPROMBANK-INVEST), Yakimanka B. Street, Building 39, Moscow 119049, Russia; 27-29/1, building 6, Smolenskaya-Sennaya st., Moscow 119121, Russia; Web site www.gpbi.ru; Executive Order 13662 Directive Determination—Subject to Directive 1; Registration ID 1037602004483; Tax ID No. 7612031791; For more information on directives, please visit the following link: https://www.treasury.gov/resource-center/sanctions/Programs/Pages/ukraine.aspx#directives [UKRAINE-E.O. 13662] (Linked To: GAZPROMBANK OAO).

14. GPB-DI HOLDINGS LIMITED (a.k.a. SIRITIA VENTURES LTD), 1 Lampousas, Nicosia 1095, Cyprus; Executive Order 13662 Directive Determination—Subject to Directive 1; Registration ID HE 145737; For more information on directives, please visit the following link: https://www.treasury.gov/resource-center/sanctions/Programs/Pages/ukraine.aspx#directives [UKRAINE-E.O. 13662] (Linked To: GAZPROMBANK OAO).

15. GPB-FACTORING OOO (a.k.a. LIMITED LIABILITY COMPANY GPB-FAKTORING), 63 Novocheremushkinskaya Street, Moscow 117418, Russia; Leninskiy prospect, building 15A, Moscow 119071, Russia; Web site www.gazprombankfactoring.ru; Executive Order 13662 Directive Determination—Subject to Directive 1; Registration ID 1107746158629; Tax ID No. 7727712331; For more information on directives, please visit the following link: https://www.treasury.gov/resource-center/sanctions/Programs/Pages/ukraine.aspx#directives [UKRAINE-E.O. 13662] (Linked To: GAZPROMBANK OAO).

16. GPB-MORTGAGE JSC (a.k.a. GPB-IPOTEKA OAO, AB; a.k.a. JOINT-STOCK BANK GPB-MORTGAGE CLOSED JOINT STOCK COMPANY), D.14 Pr Kolomenski, Moscow 115446, Russia; Web site www.gpb-ipoteka.ru; Executive Order 13662 Directive Determination—Subject to Directive 1; Registration ID 1027739137843; Tax ID No. 7727057683; For more information on directives, please visit the following link: https://www.treasury.gov/resource-center/sanctions/Programs/Pages/ukraine.aspx#directives [UKRAINE-E.O. 13662] (Linked To: GAZPROMBANK OAO).

17. IZ KARTEKS OOO (a.k.a. IZ-KARTEX NAMED AFTER P.G. KOROBKOV LTD), Izhorskiy Zavod B/N, Kolpino, Saint-Petersburg 196650, Russia; Izhorskiy Zavod, d. b/n, Kolpino, Saint-Petersburg 196651, Russia; Web site http://iz-kartex.com; Executive Order 13662 Directive Determination—Subject to Directive 1; Registration ID 1047855158780; Tax ID No. 7817301375; For more information on directives, please visit the following link: https://www.treasury.gov/resource-center/sanctions/Programs/Pages/ukraine.aspx#directives [UKRAINE-E.O. 13662] (Linked To: GAZPROMBANK OAO).

18. IZHORSKIYE ZAVODY OAO (a.k.a. OPEN JOINT STOCK COMPANY IZHORSKIE ZAVODY), Izhorskiy Zavod B/N, Kolpino, Saint-Petersburg 196650, Russia; Izhorskiy Zavod, d. b/n, Kolpino, Saint-Petersburg 196651, Russia; Web site http://omz-izhora.com; Executive Order 13662 Directive Determination—Subject to Directive 1; Registration ID 1027808749121; Tax ID No. 7817005295; For more information on directives, please visit the following link: https://www.treasury.gov/resource-center/sanctions/Programs/Pages/ukraine.aspx#directives [UKRAINE-E.O. 13662] (Linked To: GAZPROMBANK OAO).

19. KRIOGENMASH OAO (a.k.a. CRYOGENMASH; a.k.a. OPEN JOINT-STOCK COMPANY KRIOGENNOGO MASHINOSTROYENIA), 67, Lenin Avenue, Balashikha, Moscow Region 143907, Russia; 36 Lenina Prospekt, Balashikha G. 143907, Russia; Web site www.cryogenmash.ru; Executive Order 13662 Directive Determination—Subject to Directive 1; Registration ID 1025000513878; Tax ID No. 5001000066; For more information on directives, please visit the following link: https://www.treasury.gov/resource-center/sanctions/Programs/Pages/ukraine.aspx#directives [UKRAINE-E.O. 13662] (Linked To: GAZPROMBANK OAO).

20. NAGELFAR TRADE AND INVEST LIMITED (a.k.a. NAGELFAR TRADE & INVEST LIMITED), Trident Chambers, Road Town, P.O. Box 146, Tortola, Virgin Islands, British; Agias Zonis, 50, Arianthi Court, 2nd floor, Limassol 3090, Cyprus; Executive Order 13662 Directive Determination—Subject to Directive 1; For more information on directives, please visit the following link: https://www.treasury.gov/resource-center/sanctions/Programs/Pages/ukraine.aspx#directives [UKRAINE-E.O. 13662] (Linked To: GAZPROMBANK OAO).

21. NEW FINANCIAL TECHNOLOGIES OOO (a.k.a. CLOSED JOINT-STOCK COMPANY NOVYE FINANSOVYE TEKHNOLOGII; a.k.a. ZAO NOVYE FINANSOVYE TEKHNOLOGII), Vavilova Street, Building 52, Corpus 2, Moscow 117296, Russia; Yaroslavskaya Street, Building 50, Room 208, Uglich, Yaroslav Oblast 152610, Russia; Executive Order 13662 Directive Determination—Subject to Directive 1; Registration ID 1027739195692; Tax ID No. 7736144212; For more information on directives, please visit the following link: https://www.treasury.gov/resource-center/sanctions/Programs/Pages/ukraine.aspx#directives [UKRAINE-E.O. 13662] (Linked To: GAZPROMBANK OAO).

22. OMZ OAO (a.k.a. OBYEDINYONNYE MASHINOSTROITELNYE ZAVODY (GRUPPA URALMASH-IZHORA)), Bld. 20, Ovchinnikovskaya Emb., Moscow 115035, Russia; 24 Timura Frunze Street, Moscow 119021, Russia; Web site www.omz.ru; Executive Order 13662 Directive Determination—Subject to Directive 1; Registration ID 1026605610800; Tax ID No. 6663059899; For more information on directives, please visit the following link: https://www.treasury.gov/resource-center/sanctions/Programs/Pages/ukraine.aspx#directives [UKRAINE-E.O. 13662] (Linked To: GAZPROMBANK OAO).

23. OMZ SPETSSTAL OOO (a.k.a. LIMITED LIABILITY COMPANY OMZ-SPETSSTAL; a.k.a. OMZ-SPECIAL STEELS), Kolpino G, Izhorski Zavod, St. Petersburg 196651, Russia; Izhorskiy Zavod, Kolpino, Saint Petersburg 196650, Russia; Web site www.omz-specialsteel.com; Executive Order 13662 Directive Determination—Subject to Directive 1; Registration ID 1026605609348; Tax ID No. 6673089388; For more information on directives, please visit the following link: https://www.treasury.gov/resource-center/sanctions/Programs/Pages/ukraine.aspx#directives [UKRAINE-E.O. 13662] (Linked To: GAZPROMBANK OAO).

24. PO URALENERGOMONTAZH ZAO (a.k.a. AO PROIZVODSTVENNOE OBYEDINENIE ‘URALENERGOMONTAZH'; a.k.a. “PO UEM JSC”), D. 11 B Kv. 93, Prospekt Kosmonavtov, Ekaterinburg 620017, Russia; Stroibaza, Dobryanka 618740, Russia; 7, Liter A, K 4, Ul. Turbinnaya, Ekaterinburg 620017, Russia; 1a Ul.Vladivostokskaya, Ufa 450078, Russia; Stroibaza Sugres, R-Nvodoka, Per. Tikhi, Verkhnyaya Pyshma 624070, Russia; Rp Reftinski, A/Ya 1, Asbest 624285, Russia; Baes A/Ya 7, Zarechny 624051, Russia; 50, A, Ul. Transportnikov, Berezovski 623703, Russia; Transportnikov Street, Building 50 a, Berezovskiy 623704, Russia; Executive Order 13662 Directive Determination—Subject to Directive 1; Registration ID 1026602949163; For more information on directives, please visit the following link: https://www.treasury.gov/resource-center/sanctions/Programs/Pages/ukraine.aspx#directives [UKRAINE-E.O. 13662] (Linked To: GAZPROMBANK OAO).

25. SKODA JS A.S., Orlik 266, Plzen—mesto PSC 316 06, Plzen, Czech Republic; Executive Order 13662 Directive Determination—Subject to Directive 1; For more information on directives, please visit the following link: https://www.treasury.gov/resource-center/sanctions/Programs/Pages/ukraine.aspx#directives [UKRAINE-E.O. 13662] (Linked To: GAZPROMBANK OAO).

26. URALMASHZAVOD OAO (a.k.a. URALMASHPLANT), Pl. Pervoi Pyatiletki, Ekaterinburg 620012, Russia; Web site www.uralmash.ru; Executive Order 13662 Directive Determination—Subject to Directive 1; Registration ID 1026605620689; Tax ID No. 6663005798; For more information on directives, please visit the following link: https://www.treasury.gov/resource-center/sanctions/Programs/Pages/ukraine.aspx#directives [UKRAINE-E.O. 13662] (Linked To: GAZPROMBANK OAO).

On September 1, 2016, OFAC determined that Open Joint Stock Company Gazprom owns, directly or indirectly, a 50 percent or greater interest in the following persons. As such, these persons are subject to the prohibitions of Directive 4 of September 12, 2014, issued pursuant to E.O. 13662, “Blocking Property of Additional Persons Contributing to the Situation in Ukraine” and 31 CFR 589.406 and 589.802, and following the Secretary of the Treasury's determination pursuant to section l(a)(i) of E.O. 13662 with respect to the energy sector of the Russian Federation economy.

Entities

1. ACHIM DEVELOPMENT, OOO (a.k.a. ACHIM DEVELOPMENT; a.k.a. OBSHCHESTVO S OGRANICHENNOI OTVETSTVENNOSTYU ‘ACHIM DEVELOPMENT'), d.7 ul.Promyshlennaya, Novy Urengoi, Yamalo-Nenetski a.o. 629306, Russia; Executive Order 13662 Directive Determination—Subject to Directive 4; Registration ID 1148904001971; Tax ID No. 8904075533; Government Gazette Number 32131525; For more information on directives, please visit the following link: http://www.treasury.gov/resource-center/sanctions/Programs/Pages/ukraine.aspx#directives [UKRAINE-E.O. 13662] (Linked To: OPEN JOINT STOCK COMPANY GAZPROM).

2. DALTRANSGAZ, OAO (a.k.a. DALTRANSGAZ; a.k.a. OTKRYTOE AKTSIONERNOE OBSHCHESTVO ‘DALTRANSGAZ'), d. 1 ul.Solnechnaya S. Ilinka, Khabarovski Raion Khabarovski krai 680509, Russia; Web site www.daltransgaz.ru; Email Address A.Podojjnicyna@khb.gtt.gazprom.ru; Executive Order 13662 Directive Determination—Subject to Directive 4; Registration ID 1032700295650; Tax ID No. 6500000930; Government Gazette Number 54545960; For more information on directives, please visit the following link: http://www.treasury.gov/resource-center/sanctions/Programs/Pages/ukraine.aspx#directives [UKRAINE-E.O. 13662] (Linked To: OPEN JOINT STOCK COMPANY GAZPROM).

3. DRUZHBA, AO (a.k.a. AKTSIONERNOE OBSHCHESTVO ‘DRUZHBA'; a.k.a. DRUZHBA), Rogozinino, Moscow 143397, Russia; Web site en.imperialhotel.ru; Email Address drugba@t50.ru; Executive Order 13662 Directive Determination—Subject to Directive 4; Registration ID 1025003747317; Tax ID No. 5030019801; Government Gazette Number 31850347; For more information on directives, please visit the following link: http://www.treasury.gov/resource-center/sanctions/Programs/Pages/ukraine.aspx#directives [UKRAINE-E.O. 13662] (Linked To: OPEN JOINT STOCK COMPANY GAZPROM).

4. GAZMASH, AO (a.k.a. AKTSIONERNOE OBSHCHESTVO ‘GAZMASH'; f.k.a. DOCHERNEE OTKRYTOE AKTSIONERNOE OBSHCHESTVO GAZMASH OTKRYTOGO AKTSIONERNOGO OBSHCHESTVA GAZPROM; a.k.a. GAZMASH), d. 54 korp. 1 litera A pomeshch prospekt Primorski, St. Petersburg 197374, Russia; Web site www.gasmash.ru; Email Address asg@gasmash.ru; Executive Order 13662 Directive Determination—Subject to Directive 4; Registration ID 1027700008390; Tax ID No. 7709014944; Government Gazette Number 13265740; For more information on directives, please visit the following link: http://www.treasury.gov/resource-center/sanctions/Programs/Pages/ukraine.aspx#directives [UKRAINE-E.O. 13662] (Linked To: OPEN JOINT STOCK COMPANY GAZPROM).

5. GAZ-OIL, OOO (a.k.a. GAZ-OIL; a.k.a. OBSHCHESTVO S OGRANICHENNOI OTVETSTVENNOSTYU ‘GAZ-OIL'; f.k.a. ZAKRYTOE AKTSIONERNOE OBSHCHESTVO GAZ OIL), d.10 B ul.Nametkina, Moscow 117420, Russia; Web site gasoil.ru; Email Address i.blagodarov@gasoil.ru; Executive Order 13662 Directive Determination—Subject to Directive 4; Registration ID 1113926004422; Tax ID No. 3906229324; Government Gazette Number 22876655; For more information on directives, please visit the following link: http://www.treasury.gov/resource-center/sanctions/Programs/Pages/ukraine.aspx#directives [UKRAINE-E.O. 13662] (Linked To: OPEN JOINT STOCK COMPANY GAZPROM).

6. GAZPROM DOBYCHA IRKUTSK, OOO (a.k.a. GAZPROM DOBYCHA IRKUTSK; a.k.a. OBSHCHESTVO S OGRANICHENNOI OTVETSTVENNOSTYU ‘GAZPROM DOBYCHA IRKUTSK'; f.k.a. OTKRYTOE AKTSIONERNOE OBSHCHESTVO IRKUTSKGAZPROM), d.14 ul.Nizhnyaya Naberezhnaya, Irkutsk, Irkutskaya obl 664011, Russia; Web site Irkutsk-dobycha.gazprom.ru; Email Address mail@irkgazprom.irk.ru; Executive Order 13662 Directive Determination—Subject to Directive 4; Registration ID 1073812008731; Tax ID No. 3812100646; Government Gazette Number 53371127; For more information on directives, please visit the following link: http://www.treasury.gov/resource-center/sanctions/Programs/Pages/ukraine.aspx#directives [UKRAINE-E.O. 13662] (Linked To: OPEN JOINT STOCK COMPANY GAZPROM).

7. GAZPROM DOBYCHA KRASNODAR, OOO (a.k.a. GAZPROM DOBYCHA KRASNODAR; a.k.a. OBSHCHESTVO S OGRANICHENNOI OTVETSTVENNOSTYU ‘GAZPROM DOBYCHA KRASNODAR'), d.53 ul.Shosse Neftyanikov, Krasnodar, Krasnodarski krai 350051, Russia; Web site www.gazkuban.ru; Email Address adm@kuban.gazprom.ru; Executive Order 13662 Directive Determination—Subject to Directive 4; Registration ID 1022301190471; Tax ID No. 2308065678; Government Gazette Number 00153784; For more information on directives, please visit the following link: http://www.treasury.gov/resource-center/sanctions/Programs/Pages/ukraine.aspx#directives [UKRAINE-E.O. 13662] (Linked To: OPEN JOINT STOCK COMPANY GAZPROM).

8. GAZPROM DOBYCHA KUZNETSK, OOO (a.k.a. GAZPROM DOBYCHA KUZNETSK; a.k.a. OBSHCHESTVO S OGRANICHENNOI OTVETSTVENNOSTYU ‘GAZPROM DOBYCHA KUZNETSK'), d.4 prospekt Oktyabrski, Kemerovo, Kemerovskaya obl 650066, Russia; Web site kuznetsk-dobycha.gazprom.ru; Email Address GPKKUZNETSK@MAIL.RU; Executive Order 13662 Directive Determination—Subject to Directive 4; Registration ID 1024201465551; Tax ID No. 4216000032; Government Gazette Number 26624330; For more information on directives, please visit the following link: http://www.treasury.gov/resource-center/sanctions/Programs/Pages/ukraine.aspx#directives [UKRAINE-E.O. 13662] (Linked To: OPEN JOINT STOCK COMPANY GAZPROM).

9. GAZPROM DOBYCHA NADYM, OOO (a.k.a. GAZPROM DOBYCHA NADYM; a.k.a. OBSHCHESTVO S OGRANICHENNOI OTVETSTVENNOSTYU ‘GAZPROM DOBYCHA NADYM'), d.1 ul.Zvereva, Nadym, Yamalo-Nenetski a.o. 629730, Russia; Web site nadymdobycha.gazprom.ru; Email Address MANAGER@ONGP.RU; Executive Order 13662 Directive Determination—Subject to Directive 4; Registration ID 1028900578080; Tax ID No. 8903019871; Government Gazette Number 00153761; For more information on directives, please visit the following link: http://www.treasury.gov/resource-center/sanctions/Programs/Pages/ukraine.aspx#directives [UKRAINE-E.O. 13662] (Linked To: OPEN JOINT STOCK COMPANY GAZPROM).

10. GAZPROM DOBYCHA NOYABRSK, OOO (a.k.a. GAZPROM DOBYCHA NOYABRSK; a.k.a. OBSHCHESTVO S OGRANICHENNOI OTVETSTVENNOSTYU ‘GAZPROM DOBYCHA NOYABRSK'), d.20 ul. Respubliki, Noyabrsk, Yamalo-Nenetski a.o. 629802, Russia; Web site noyabrsk-dobycha.gazprom.ru; Email Address NGD@NGD.GASPROM.RU; Executive Order 13662 Directive Determination—Subject to Directive 4; Registration ID 1028900706647; Tax ID No. 8905026850; Government Gazette Number 05751797; For more information on directives, please visit the following link: http://www.treasury.gov/resource-center/sanctions/Programs/Pages/ukraine.aspx#directives [UKRAINE-E.O. 13662] (Linked To: OPEN JOINT STOCK COMPANY GAZPROM).

11. GAZPROM DOBYCHA URENGOI, OOO (a.k.a. GAZPROM DOBYCHA URENGOY; a.k.a. OBSHCHESTVO S OGRANICHENNOI OTVETSTVENNOSTYU ‘GAZPROM DOBYCHA URENGOI'), d.8 ul.Zheleznodorozhnaya, Novy Urengoi, Yamalo-Nenetski a.o. 629307, Russia; Web site urengoy-dobycha.gazprom.ru; Email Address s.v.mazanov@gd-urengoy.gazprom.ru; Executive Order 13662 Directive Determination—Subject to Directive 4; Registration ID 1028900628932; Tax ID No. 8904034784; Government Gazette Number 05751745; For more information on directives, please visit the following link: http://www.treasury.gov/resource-center/sanctions/Programs/Pages/ukraine.aspx#directives [UKRAINE-E.O. 13662] (Linked To: OPEN JOINT STOCK COMPANY GAZPROM).

12. GAZPROM DOBYCHA YAMBURG,OOO (a.k.a. GAZPROM DOBYCHA YAMBURG; a.k.a. OBSHCHESTVO S OGRANICHENNOI OTVETSTVENNOSTYU ‘GAZPROM DOBYCHA YAMBURG'), d.9 ul. Geologorazvedchikov, Novy Urengoi, Yamalo-Nenetski a.o 629306, Russia; Web site yamburg-dobycha.gazprom.ru; Email Address PRIYEMNAYA@YGDU; Executive Order 13662 Directive Determination—Subject to Directive 4; Registration ID 1028900624576; Tax ID No. 8904034777; Government Gazette Number 04803457; For more information on directives, please visit the following link: http://www.treasury.gov/resource-center/sanctions/Programs/Pages/ukraine.aspx#directives [UKRAINE-E.O. 13662] (Linked To: OPEN JOINT STOCK COMPANY GAZPROM).

13. GAZPROM ENERGO, OOO (a.k.a. GAZPROM ENERGO; a.k.a. OBSHCHESTVO S OGRANICHENNOI OTVETSTVENNOSTYU ‘GAZPROM ENERGO'), 8 Korp. 1 ul.Stroitelei, Moscow 117939, Russia; Web site gazpromenergo.gazprom.ru; Email Address info@adm.energo.gazprom.ru; Executive Order 13662 Directive Determination—Subject to Directive 4; Registration ID 1027739841370; Tax ID No. 7736186950; Government Gazette Number 18584757; For more information on directives, please visit the following link: http://www.treasury.gov/resource-center/sanctions/Programs/Pages/ukraine.aspx#directives [UKRAINE-E.O. 13662] (Linked To: OPEN JOINT STOCK COMPANY GAZPROM).

14. GAZPROM FLOT, OOO (a.k.a. GAZPROM FLOT; f.k.a. OBSHCHESTVO S OGRANICHENNOI OTVETSTVENNOSTYU GAZFLOT; a.k.a. OBSHCHESTVO S OGRANICHENNOI OTVETSTVENNOSTYU ‘GAZPROM FLOT'), d. 12 A ul.Nametkina, Moscow 117420, Russia; Web site flot.gazprom.ru; Email Address denisenko@gazflot.ru; Executive Order 13662 Directive Determination—Subject to Directive 4; Registration ID 1027700198635; Tax ID No. 7740000037; Government Gazette Number 40025139; For more information on directives, please visit the following link: http://www.treasury.gov/resource-center/sanctions/Programs/Pages/ukraine.aspx#directives [UKRAINE-E.O. 13662] (Linked To: OPEN JOINT STOCK COMPANY GAZPROM).

15. GAZPROM GAZNADZOR, OOO (a.k.a. GAZPROM GAZNADZOR; a.k.a. OBSHCHESTVO S OGRANICHENNOI OTVETSTVENNOSTYU ‘GAZPROM GAZNADZOR'), 41 str. 1 prospekt Vernadskogo, Moscow 119415, Russia; Web site gaznadzor.gazprom.ru; Email Address artemyeva@gaznadzor.gazprom.ru; Executive Order 13662 Directive Determination—Subject to Directive 4; Registration ID 1027700528019; Tax ID No. 7740000051; Government Gazette Number 05030626; For more information on directives, please visit the following link: http://www.treasury.gov/resource-center/sanctions/Programs/Pages/ukraine.aspx#directives [UKRAINE-E.O. 13662] (Linked To: OPEN JOINT STOCK COMPANY GAZPROM).

16. GAZPROM GAZOBEZOPASNOST, OOO (a.k.a. GAZPROM GAZOBEZOPASNOST; a.k.a. OBSHCHESTVO S OGRANICHENNOI OTVETSTVENNOSTYU ‘GAZPROM GAZOBEZOPASNOST'), d. 8 korp. 1 ul.Stroitelei, Moscow 119311, Russia; Web site gazbez.ru; Email Address g.rybanova@gazbez.gazprom.ru; Executive Order 13662 Directive Determination—Subject to Directive 4; Registration ID 1025000658187; Tax ID No. 5003028148; Government Gazette Number 23484472; For more information on directives, please visit the following link: http://www.treasury.gov/resource-center/sanctions/Programs/Pages/ukraine.aspx#directives [UKRAINE-E.O. 13662] (Linked To: OPEN JOINT STOCK COMPANY GAZPROM).

17. GAZPROM GEOLOGORAZVEDKA, OOO (a.k.a. GAZPROM GEOLOGORAZVEDKA; f.k.a. OBSHCHESTVO S OGRANICHENNOI OTVETSTVENNOSTYU GAZPROM DOBYCHA KRASNOYARSK; a.k.a. OBSHCHESTVO S OGRANICHENNOI OTVETSTVENNOSTYU ‘GAZPROM GEOLOGORAZVEDKA'), d.70 ul.Gertsena, Tyumen, Tyumenskaya obl. 625000, Russia; Web site geologorazvedka.gazprom.ru; Email Address a.davydov@ggr.gazprom.ru; Executive Order 13662 Directive Determination—Subject to Directive 4; Registration ID 1042401809560; Tax ID No. 2460066149; Government Gazette Number 75782730; For more information on directives, please visit the following link: http://www.treasury.gov/resource-center/sanctions/Programs/Pages/ukraine.aspx#directives [UKRAINE-E.O. 13662] (Linked To: OPEN JOINT STOCK COMPANY GAZPROM).

18. GAZPROM INFORM, OOO (a.k.a. GAZPROM INFORM; a.k.a. OBSHCHESTVO S OGRANICHENNOI OTVETSTVENNOSTYU ‘GAZPROM INFORM'; f.k.a. ZAKRYTOE AKTSIONERNOE OBSHCHESTVO INFORMGAZINVEST), d. 13 str. 3 ul.Bolshaya Cheremushkinskaya, Moscow 117447, Russia; Web site inform.gazprom.ru; Email Address d.g.kozlov@inform.gazprom.ru; Executive Order 13662 Directive Determination—Subject to Directive 4; Registration ID 1097746469303; Tax ID No. 7727696104; Government Gazette Number 49880231; For more information on directives, please visit the following link: http://www.treasury.gov/resource-center/sanctions/Programs/Pages/ukraine.aspx#directives [UKRAINE-E.O. 13662] (Linked To: OPEN JOINT STOCK COMPANY GAZPROM).

19. GAZPROM INVEST, OOO (a.k.a. GAZPROM INVEST; a.k.a. OBSHCHESTVO S OGRANICHENNOI OTVETSTVENNOSTYU ‘GAZPROM INVEST'), d. 6 litera D ul.Startovaya, St. Petersburg 196210, Russia; Web site zapad-invest.gazprom.ru; Email Address izelentsov@zapad-invest.gazprom.ru; Executive Order 13662 Directive Determination—Subject to Directive 4; Registration ID 1077847507759; Tax ID No. 7810483334; Government Gazette Number 82129203; For more information on directives, please visit the following link: http://www.treasury.gov/resource-center/sanctions/Programs/Pages/ukraine.aspx#directives [UKRAINE-E.O. 13662] (Linked To: OPEN JOINT STOCK COMPANY GAZPROM).

20. GAZPROM KAPITAL, OOO (a.k.a. GAZPROM KAPITAL; a.k.a. OBSHCHESTVO S OGRANICHENNOI OTVETSTVENNOSTYU ‘GAZPROM KAPITAL'; f.k.a. OBSHCHESTVO S OGRANICHENNOI OTVETSTVENNOSTYU KAP INFIN), Sosenskoe Pos, Pos. Gazoprovod, D. 101 Korp. 9, Moscow 142770, Russia; Web site gazpromcapital.ru; Email Address info.gazprom_capital@adm.gazprom.ru; Executive Order 13662 Directive Determination—Subject to Directive 4; Registration ID 1087746212388; Tax ID No. 7726588547; Government Gazette Number 84813628; For more information on directives, please visit the following link: http://www.treasury.gov/resource-center/sanctions/Programs/Pages/ukraine.aspx#directives [UKRAINE-E.O. 13662] (Linked To: OPEN JOINT STOCK COMPANY GAZPROM).

21. GAZPROM KOMPLEKTATSIYA, OOO (a.k.a. GAZPROM KOMPLEKTATSIYA; a.k.a. OBSHCHESTVO S OGRANICHENNOI OTVETSTVENNOSTYU ‘GAZPROM KOMPLEKTATSIYA'), 8 Korp. 1 ul.Stroitelei, Moscow 119991, Russia; Web site komplektatsiya.gazprom.ru; Email Address gki@gki.gazprom.ru; Executive Order 13662 Directive Determination—Subject to Directive 4; Registration ID 1027700501113; Tax ID No. 7740000044; Government Gazette Number 05030632; For more information on directives, please visit the following link: http://www.treasury.gov/resource-center/sanctions/Programs/Pages/ukraine.aspx#directives [UKRAINE-E.O. 13662] (Linked To: OPEN JOINT STOCK COMPANY GAZPROM).

22. GAZPROM MEZHREGIONGAZ, OOO (a.k.a. GAZPROM MEZHREGIONGAZ; a.k.a. OBSHCHESTVO S OGRANICHENNOI OTVETSTVENNOSTYU ‘GAZPROM MEZHREGIONGAZ'), d. DOM 24 korp. LITER A nab.Admirala Lazareva, St. Petersburg 197110, Russia; Web site mrg.gazprom.ru; Email Address k.seleznev@mrg.gazprom.ru; Executive Order 13662 Directive Determination—Subject to Directive 4; Registration ID 1025000653930; Tax ID No. 5003021311; Government Gazette Number 45138919; For more information on directives, please visit the following link: http://www.treasury.gov/resource-center/sanctions/Programs/Pages/ukraine.aspx#directives [UKRAINE-E.O. 13662] (Linked To: OPEN JOINT STOCK COMPANY GAZPROM).

23. GAZPROM PERERABOTKA, OOO (a.k.a. GAZPROM PERERABOTKA; a.k.a. OBSHCHESTVO S OGRANICHENNOI OTVETSTVENNOSTYU ‘GAZPROM PERERABOTKA'), d.16 ul.Ostrovskogo, Surgut, Khanty-Mansiski Avtonomny okrug—Yugra a.o. 628417, Russia; Web site pererabotka.gazprom.ru; Email Address GPP@GPP.GAZPROM.RU; Executive Order 13662 Directive Determination—Subject to Directive 4; Registration ID 1071102001651; Tax ID No. 1102054991; Government Gazette Number 97152834; For more information on directives, please visit the following link: http://www.treasury.gov/resource-center/sanctions/Programs/Pages/ukraine.aspx#directives [UKRAINE-E.O. 13662] (Linked To: OPEN JOINT STOCK COMPANY GAZPROM).

24. GAZPROM PERSONAL, OOO (a.k.a. GAZPROM PERSONAL; a.k.a. OBSHCHESTVO S OGRANICHENNOI OTVETSTVENNOSTYU ‘GAZPROM PERSONAL'), 16, Gsp-7 ul.Nametkina, Moscow 117997, Russia; Email Address a.malushitsky@podzemgazprom.ru; Executive Order 13662 Directive Determination—Subject to Directive 4; Registration ID 5117746041860; Tax ID No. 7728794168; Government Gazette Number 38223286; For more information on directives, please visit the following link: http://www.treasury.gov/resource-center/sanctions/Programs/Pages/ukraine.aspx#directives [UKRAINE-E.O. 13662] (Linked To: OPEN JOINT STOCK COMPANY GAZPROM).

25. GAZPROM PROMGAZ, AO (a.k.a. AKTSIONERNOE OBSHCHESTVO ‘GAZPROM PROMGAZ'; a.k.a. GAZPROM PROMGAZ; f.k.a. OTKRYTOE AKTSIONERNOE OBSHCHESTVO GAZPROM PROMGAZ), d. 6 ul.Nametkina, Moscow 117420, Russia; Web site oao-promgaz.ru; Email Address A.Solomko@promgaz.gazprom.ru; Executive Order 13662 Directive Determination—Subject to Directive 4; Registration ID 1027700174061; Tax ID No. 7734034550; Government Gazette Number 00158847; For more information on directives, please visit the following link: http://www.treasury.gov/resource-center/sanctions/Programs/Pages/ukraine.aspx#directives [UKRAINE-E.O. 13662] (Linked To: OPEN JOINT STOCK COMPANY GAZPROM).

26. GAZPROM RUSSKAYA, OOO (a.k.a. GAZPROM RUSSKAYA; a.k.a. OBSHCHESTVO S OGRANICHENNOI OTVETSTVENNOSTYU ‘GAZPROM RUSSKAYA'; f.k.a. OBSHCHESTVO S OGRANICHENNOI OTVETSTVENNOSTYU KOVYKTNEFTEGAZ), 3 korp.2 ul.Varshavskaya, St. Petersburg 196128, Russia; Executive Order 13662 Directive Determination—Subject to Directive 4; Registration ID 1023801016887; Tax ID No. 3808069915; Government Gazette Number 55567892; For more information on directives, please visit the following link: http://www.treasury.gov/resource-center/sanctions/Programs/Pages/ukraine.aspx#directives. [UKRAINE-E.O. 13662] (Linked To: OPEN JOINT STOCK COMPANY GAZPROM).

27. GAZPROM SOTSINVEST, OOO (a.k.a. GAZPROM SOTSINVEST; f.k.a. GAZPROMINVESTARENA OOO; a.k.a. OBSHCHESTVO S OGRANICHENNOI OTVETSTVENNOSTYU ‘GAZPROM SOTSINVEST'), d. 20 litera A nab.Aptekarskaya, St. Petersburg 197022, Russia; Web site sotsinvest.gazprom.ru; Email Address Y.Gagarinskiy@gpia.ru; Executive Order 13662 Directive Determination—Subject to Directive 4; Registration ID 1037700253470; Tax ID No. 7736077414; Government Gazette Number 11453584; For more information on directives, please visit the following link: http://www.treasury.gov/resource-center/sanctions/Programs/Pages/ukraine.aspx#directives. [UKRAINE-E.O. 13662] (Linked To: OPEN JOINT STOCK COMPANY GAZPROM).

28. GAZPROM SVYAZ, OOO (a.k.a. GAZPROM SVYAZ; a.k.a. OBSHCHESTVO S OGRANICHENNOI OTVETSTVENNOSTYU ‘GAZPROM SVYAZ'), d.16 ul.Nametkina, Moscow 117997, Russia; Web site gazsvyaz.ru; Email Address a.nosonov@gazprom.ru; Executive Order 13662 Directive Determination—Subject to Directive 4; Registration ID 1027739411457; Tax ID No. 7740000020; Government Gazette Number 04695507; For more information on directives, please visit the following link: http://www.treasury.gov/resource-center/sanctions/Programs/Pages/ukraine.aspx#directives [UKRAINE-E.O. 13662] (Linked To: OPEN JOINT STOCK COMPANY GAZPROM).

29. GAZPROM TELEKOM, OOO (a.k.a. GAZPROM TELECOM; a.k.a. OBSHCHESTVO S OGRANICHENNOI OTVETSTVENNOSTYU ‘GAZPROM TELEKOM'; f.k.a. ZAKRYTOE AKTSIONERNOE OBSHCHESTVO GAZTELEKOM), d. 62 str. 2 shosse Starokaluzhskoe, Moscow 117630, Russia; Web site www.gaztelecom.ru; Email Address b.motenko@gazpromtelecom.ru; Executive Order 13662 Directive Determination—Subject to Directive 4; Registration ID 1137746329962; Tax ID No. 7728840569; Government Gazette Number 42934136; For more information on directives, please visit the following link: http://www.treasury.gov/resource-center/sanctions/Programs/Pages/ukraine.aspx#directives [UKRAINE-E.O. 13662] (Linked To: OPEN JOINT STOCK COMPANY GAZPROM).

30. GAZPROM TRANSGAZ KAZAN, OOO (a.k.a. GAZPROM TRANSGAZ KAZAN; a.k.a. OBSHCHESTVO S OGRANICHENNOI OTVETSTVENNOSTYU ‘GAZPROM TRANSGAZ KAZAN'), d.41 ul.Adelya Kutuya, Kazan, Tatarstan resp 420073, Russia; Web site kazan-tr.gazprom.ru; Email Address Vlads@TTG.bancorp.ru; Executive Order 13662 Directive Determination—Subject to Directive 4; Registration ID 1021603624921; Tax ID No. 1600000036; Government Gazette Number 00154364; For more information on directives, please visit the following link: http://www.treasury.gov/resource-center/sanctions/Programs/Pages/ukraine.aspx#directives [UKRAINE-E.O. 13662] (Linked To: OPEN JOINT STOCK COMPANY GAZPROM).

31. GAZPROM TRANSGAZ KRASNODAR, OOO (a.k.a. GAZPROM TRANSGAZ KRASNODAR; a.k.a. OBSHCHESTVO S OGRANICHENNOI OTVETSTVENNOSTYU ‘GAZPROM TRANSGAZ KRASNODAR'), d.36 ul.Im Dzerzhinskogo, Krasnodar, Krasnodarski krai 350051, Russia; Web site Krasnodar-tr.gazprom.ru; Email Address d.matutin@tgk.gazprom.ru; Executive Order 13662 Directive Determination—Subject to Directive 4; Registration ID 1072308003063; Tax ID No. 2308128945; Government Gazette Number 80169546; For more information on directives, please visit the following link: http://www.treasury.gov/resource-center/sanctions/Programs/Pages/ukraine.aspx#directives [UKRAINE-E.O. 13662] (Linked To: OPEN JOINT STOCK COMPANY GAZPROM).

32. GAZPROM TRANSGAZ MAKHACHKALA, OOO (a.k.a. GAZPROM TRANSGAZ MAKHACHKALA; a.k.a. OBSHCHESTVO S OGRANICHENNOI OTVETSTVENNOSTYU ‘GAZPROM TRANSGAZ MAKHACHKALA; f.k.a. OBSHCHESTVO S OGRANICHENNOI OTVETSTVENNOSTYU GAZPROM TRANSGAZ MAKHACHKALA), ul.O.Bulacha, Makhachkala, Dagestan resp. 367030, Russia; Web site Makhachkala-tr.gazprom.ru; Email Address emirbekov@dgp.gazprom.ru; Executive Order 13662 Directive Determination—Subject to Directive 4; Registration ID 1020502628486; Tax ID No. 0500000136; Government Gazette Number 12824367; For more information on directives, please visit the following link: http://www.treasury.gov/resource-center/sanctions/Programs/Pages/ukraine.aspx#directives [UKRAINE-E.O. 13662] (Linked To: OPEN JOINT STOCK COMPANY GAZPROM).

33. GAZPROM TRANSGAZ NIZHNI NOVGOROD, OOO (a.k.a. GAZPROM TRANSGAZ NIZHNY NOVGOROD; a.k.a. OBSHCHESTVO S OGRANICHENNOI OTVETSTVENNOSTYU ‘GAZPROM TRANSGAZ NIZHNI NOVGOROD'), d.11 ul.Zvezdinka, Nizhni Novgorod, Nizhegorodskaya obl. 603950, Russia; Web site n-novgorod-tr.gazprom.ru; Email Address ceo@vtg.gazprom.ru; Executive Order 13662 Directive Determination—Subject to Directive 4; Registration ID 1025203016332; Tax ID No. 5260080007; Government Gazette Number 04864329; For more information on directives, please visit the following link: http://www.treasury.gov/resource-center/sanctions/Programs/Pages/ukraine.aspx#directives [UKRAINE-E.O. 13662] (Linked To: OPEN JOINT STOCK COMPANY GAZPROM).

34. GAZPROM TRANSGAZ SAMARA, OOO (a.k.a. GAZPROM TRANSGAZ SAMARA; a.k.a. OBSHCHESTVO S OGRANICHENNOI OTVETSTVENNOSTYU ‘GAZPROM TRANSGAZ SAMARA'), d. 106 A str. 1 ul.Novo-Sadovaya, Samara, Samarskaya obl. 443068, Russia; Web site samara-tr.gazprom.ru; Email Address oppt@samaratransgaz.gazprom.ru; Executive Order 13662 Directive Determination—Subject to Directive 4; Registration ID 1026300956505; Tax ID No. 6315000291; Government Gazette Number 00154306; For more information on directives, please visit the following link: http://www.treasury.gov/resource-center/sanctions/Programs/Pages/ukraine.aspx#directives [UKRAINE-E.O. 13662] (Linked To: OPEN JOINT STOCK COMPANY GAZPROM).

35. GAZPROM TRANSGAZ SANKT-PETERBURG, OOO (a.k.a. GAZPROM TRANSGAZ SAINT PETERSBURG; a.k.a. OBSHCHESTVO S OGRANICHENNOI OTVETSTVENNOSTYU ‘GAZPROM TRANSGAZ SANKT-PETERBURG'), 3 korp.2 ul.Varshavskaya, St. Petersburg 196128, Russia; Web site www.spb-tr.gazprom.ru; Email Address gfokin@spb.ltg.gazprom.ru; Executive Order 13662 Directive Determination—Subject to Directive 4; Registration ID 1027804862755; Tax ID No. 7805018099; Government Gazette Number 00154312; For more information on directives, please visit the following link: http://www.treasury.gov/resource-center/sanctions/Programs/Pages/ukraine.aspx#directives [UKRAINE-E.O. 13662] (Linked To: OPEN JOINT STOCK COMPANY GAZPROM).

36. GAZPROM TRANSGAZ SARATOV, OOO (a.k.a. GAZPROM TRANSGAZ SARATOV; a.k.a. OBSHCHESTVO S OGRANICHENNOI OTVETSTVENNOSTYU ‘GAZPROM TRANSGAZ SARATOV'), d.118 A prospekt Im 50 Let Oktyabrya, Saratov, Saratovskaya obl. 410052, Russia; Web site Saratov-tr.gazprom.ru; Email Address SECR@UTG.GAZPROM.RU; Executive Order 13662 Directive Determination—Subject to Directive 4; Registration ID 1026403049815; Tax ID No. 6453010110; Government Gazette Number 04863554; For more information on directives, please visit the following link: http://www.treasury.gov/resource-center/sanctions/Programs/Pages/ukraine.aspx#directives [UKRAINE-E.O. 13662] (Linked To: OPEN JOINT STOCK COMPANY GAZPROM).

37. GAZPROM TRANSGAZ STAVROPOL, OOO (a.k.a. GAZPROM TRANSGAZ STAVROPOL; a.k.a. OBSHCHESTVO S OGRANICHENNOI OTVETSTVENNOSTYU ‘GAZPROM TRANSGAZ STAVROPOL'), d.6 prospekt Oktyabrskoi Revolyutsii, Stavropol, Stavropolski krai 355000, Russia; Web site Stavropol-tr.gazprom.ru; Email Address ooo@ktg.gazprom.ru; Executive Order 13662 Directive Determination—Subject to Directive 4; Registration ID 1022601940613; Tax ID No. 2636032629; Government Gazette Number 04864447; For more information on directives, please visit the following link: http://www.treasury.gov/resource-center/sanctions/Programs/Pages/ukraine.aspx#directives [UKRAINE-E.O. 13662] (Linked To: OPEN JOINT STOCK COMPANY GAZPROM).

38. GAZPROM TRANSGAZ SURGUT, OOO (a.k.a. GAZPROM TRANSGAZ SURGUT; a.k.a. OBSHCHESTVO S OGRANICHENNOI OTVETSTVENNOSTYU `GAZPROM TRANSGAZ SURGUT'), d.1 ul.Universitetskaya, Surgut, Khanty-Mansiski Avtonomny okrug—Yugra a.o. 628406, Russia; Web site Surgut-tr.gazprom.ru; Email Address TELEGRAF@SURGUT.GAZPROM.RU; Executive Order 13662 Directive Determination—Subject to Directive 4; Registration ID 1028601679314; Tax ID No. 8617002073; Government Gazette Number 05015124; For more information on directives, please visit the following link: http://www.treasury.gov/resource-center/sanctions/Programs/Pages/ukraine.aspx#directives [UKRAINE-E.O. 13662] (Linked To: OPEN JOINT STOCK COMPANY GAZPROM).

39. GAZPROM TRANSGAZ TOMSK, OOO (a.k.a. GAZPROM TRANSGAZ TOMSK; a.k.a. OBSHCHESTVO S OGRANICHENNOI OTVETSTVENNOSTYU `GAZPROM TRANSGAZ TOMSK'), d.9 prospekt Frunze, Tomsk, Tomskaya obl. 634029, Russia; Web site tomsk-tr.gazprom.ru; Email Address A.rays@tlru.gtt.gazprom.ru; Executive Order 13662 Directive Determination—Subject to Directive 4; Registration ID 1027000862954; Tax ID No. 7017005289; Government Gazette Number 04634954; For more information on directives, please visit the following link: http://www.treasury.gov/resource-center/sanctions/Programs/Pages/ukraine.aspx#directives [UKRAINE-E.O. 13662] (Linked To: OPEN JOINT STOCK COMPANY GAZPROM).

40. GAZPROM TRANSGAZ UFA, OOO (a.k.a. GAZPROM TRANSGAZ UFA; f.k.a. OBSHCHESTVO S OGRANICHENNOI OTVETSTVENNOSTYU BASHTRANSGAZ OTKRYTOGO AKTSIONERNOGO OBSHCHESTVA GAZPROM; a.k.a. OBSHCHESTVO S OGRANICHENNOI OTVETSTVENNOSTYU `GAZPROM TRANSGAZ UFA'), 59 ul.Rikharda Zorge, Ufa, Bashkortostan resp. 450054, Russia; Web site ufa-tr.gazprom.ru; Email Address info@bashtg.gazp; Executive Order 13662 Directive Determination—Subject to Directive 4; Registration ID 1020202861821; Tax ID No. 0276053659; Government Gazette Number 00154358; For more information on directives, please visit the following link: http://www.treasury.gov/resource-center/sanctions/Programs/Pages/ukraine.aspx#directives [UKRAINE-E.O. 13662] (Linked To: OPEN JOINT STOCK COMPANY GAZPROM).

41. GAZPROM TRANSGAZ UKHTA, OOO (a.k.a. GAZPROM TRANSGAZ UKHTA; a.k.a. OBSHCHESTVO S OGRANICHENNOI OTVETSTVENNOSTYU `GAZPROM TRANSGAZ UKHTA'), d.39/2 prospekt Lenina, Ukhta, Komi resp 169312, Russia; Web site ukhta-tr.gazprom.ru; Email Address azaharov@sgp.gazprom.ru; Executive Order 13662 Directive Determination—Subject to Directive 4; Registration ID 1021100731190; Tax ID No. 1102024468; Government Gazette Number 00159025; For more information on directives, please visit the following link: http://www.treasury.gov/resource-center/sanctions/Programs/Pages/ukraine.aspx#directives [UKRAINE-E.O. 13662] (Linked To: OPEN JOINT STOCK COMPANY GAZPROM).

42. GAZPROM TRANSGAZ VOLGOGRAD, OOO (a.k.a. GAZPROM TRANSGAZ VOLGOGRAD; a.k.a. OBSHCHESTVO S OGRANICHENNOI OTVETSTVENNOSTYU `GAZPROM TRANSGAZ VOLGOGRAD'), 58 ul.Raboche-Krestyanskaya, Volgograd, Volgogradskaya obl. 400074, Russia; Web site Volgograd-tr.gazprom.ru; Email Address VTG@GASPROM.RU; Executive Order 13662 Directive Determination—Subject to Directive 4; Registration ID 1023403849182; Tax ID No. 3445042160; Government Gazette Number 00154281; For more information on directives, please visit the following link: http://www.treasury.gov/resource-center/sanctions/Programs/Pages/ukraine.aspx#directives [UKRAINE-E.O. 13662] (Linked To: OPEN JOINT STOCK COMPANY GAZPROM).

43. GAZPROM TRANSGAZ YUGORSK, OOO (a.k.a. GAZPROM TRANSGAZ YUGORSK; a.k.a. OBSHCHESTVO S OGRANICHENNOI OTVETSTVENNOSTYU `GAZPROM TRANSGAZ YUGORSK'; f.k.a. OBSHCHESTVO S OGRANICHENNOI OTVETSTVENNOSTYU TYUMENTRANSGAZ), d.15 ul.Mira, Yugorsk, Khanty-Mansiski Avtonomny okrug, Yugra a.o. 628260, Russia; Web site www.gazprom-transgaz-yugorsk.ru; Email Address KANS1@TTG.GAZPROM.RU; Executive Order 13662 Directive Determination—Subject to Directive 4; Registration ID 1028601843918; Tax ID No. 8622000931; Government Gazette Number 00154223; For more information on directives, please visit the following link: http://www.treasury.gov/resource-center/sanctions/Programs/Pages/ukraine.aspx#directives [UKRAINE-E.O. 13662] (Linked To: OPEN JOINT STOCK COMPANY GAZPROM).

44. GAZPROM TSENTRREMONT, OOO (a.k.a. GAZPROM TSENTRREMONT; a.k.a. OBSHCHESTVO S OGRANICHENNOI OTVETSTVENNOSTYU `GAZPROM TSENTRREMONT'), d.1 ul.Moskovskaya, Shchelkovo, Moskovskaya obl 141112, Russia; Web site centrremont.gazprom.ru; Email Address I.Suvorova@gcr.gazprom.ru; Executive Order 13662 Directive Determination—Subject to Directive 4; Registration ID 1085050006766; Tax ID No. 5050073540; Government Gazette Number 86732184; For more information on directives, please visit the following link: http://www.treasury.gov/resource-center/sanctions/Programs/Pages/ukraine.aspx#directives [UKRAINE-E.O. 13662] (Linked To: OPEN JOINT STOCK COMPANY GAZPROM).

45. GAZPROM VNIIGAZ, OOO (a.k.a. GAZPROM VNIIGAZ; a.k.a. OBSHCHESTVO S OGRANICHENNOI OTVETSTVENNOSTYU `NAUCHNO-ISSLEDOVATELSKI INSTITUT PRIRODNYKH GAZOV I GAZOVYKH TEKHNOLOGI—GAZPROM VNIIGAZ'), P Razvilka, Leninski Raion, Moskovskaya obl. 142717, Russia; Web site www.vniigaz.ru; Email Address adm@vniigaz.gazprom.ru; Executive Order 13662 Directive Determination—Subject to Directive 4; Registration ID 1025000651598; Tax ID No. 5003028155; Government Gazette Number 31323949; For more information on directives, please visit the following link: http://www.treasury.gov/resource-center/sanctions/Programs/Pages/ukraine.aspx#directives [UKRAINE-E.O. 13662] (Linked To: OPEN JOINT STOCK COMPANY GAZPROM).

46. KAMCHATGAZPROM, OAO (a.k.a. KAMCHATGAZPROM; a.k.a. OTKRYTOE AKTSIONERNOE OBSHCHESTVO `KAMCHATGAZPROM'), d.19 ul.Pogranichnaya, Petropavlovsk-Kamchatski, Kamchatski krai 683032, Russia; Web site gazprom.kamchatka.ru; Email Address novikova@gazprom.kamchatka.ru; Executive Order 13662 Directive Determination—Subject to Directive 4; Registration ID 1024101219966; Tax ID No. 4105023034; Government Gazette Number 10870044; For more information on directives, please visit the following link: http://www.treasury.gov/resource-center/sanctions/Programs/Pages/ukraine.aspx#directives [UKRAINE-E.O. 13662] (Linked To: OPEN JOINT STOCK COMPANY GAZPROM).

47. KRASNOYARSKGAZPROM, PAO (a.k.a. KRASNOYARSKGAZPROM; a.k.a. PUBLICHNOE AKTSIONERNOE OBSHCHESTVO `KRASNOYARSKGAZPROM'), d.1 pl.Akademika Kurchatova, Moscow 123182, Russia; Web site www.kgazprom.ru; Email Address lukyanchikov@kgazprom.ru; Executive Order 13662 Directive Determination—Subject to Directive 4; Registration ID 1022401804820; Tax ID No. 2460040655; Government Gazette Number 52290094; For more information on directives, please visit the following link: http://www.treasury.gov/resource-center/sanctions/Programs/Pages/ukraine.aspx#directives [UKRAINE-E.O. 13662] (Linked To: OPEN JOINT STOCK COMPANY GAZPROM).

48. LAZURNAYA, OOO (a.k.a. OBSHCHESTVO S OGRANICHENNOI OTVETSTVENNOSTYU `LAZURNAYA'; a.k.a. “LAZURNAYA”), d.103 prospekt Kurortny, Sochi, Krasnodarski krai 354024, Russia; Web site www.lazurnaya.ru; Email Address res@lazurnaya.ru; Executive Order 13662 Directive Determination—Subject to Directive 4; Registration ID 1132367004989; Tax ID No. 2319070831; Government Gazette Number 10077966; For more information on directives, please visit the following link: http://www.treasury.gov/resource-center/sanctions/Programs/Pages/ukraine.aspx#directives [UKRAINE-E.O. 13662] (Linked To: OPEN JOINT STOCK COMPANY GAZPROM).

49. NIIGAZEKONOMIKA, OOO (a.k.a. NIIGAZECONOMIKA; a.k.a. OBSHCHESTVO S OGRANICHENNOI OTVETSTVENNOSTYU `NAUCHNOISSLEDOVATELSKI INSTITUT EKONOMIKI I ORGANIZATSII UPRAVLENIYA V GAZOVOIPROMYSHLENNOSTI'), d. 20 korp. 8 ul. Staraya Basmannaya, Moscow 107066, Russia; Web site niigazeconomika.gazprom.ru; Email Address econmg@gazprom.ru; Executive Order 13662 Directive Determination—Subject to Directive 4; Registration ID 1027739345842; Tax ID No. 7701022125; Government Gazette Number 47588503; For more information on directives, please visit the following link: http://www.treasury.gov/resource-center/sanctions/Programs/Pages/ukraine.aspx#directives [UKRAINE-E.O. 13662] (Linked To: OPEN JOINT STOCK COMPANY GAZPROM).

50. VOSTOKGAZPROM, OAO (a.k.a. OTKRYTOE AKTSIONERNOE OBSHCHESTVO `VOSTOKGAZPROM'; a.k.a. VOSTOKGAZPROM), d.73 ul.Bolshaya Podgornaya, Tomsk, Tomskaya obl. 634009, Russia; Web site vostokgazprom.gazprom.ru; Email Address canclervgp@vostokgazprom.ru; alt. Executive Order 13662 Directive Determination—Subject to Directive 4; Registration ID 1027000855111; Tax ID No. 7017005296; Government Gazette Number 49382579; For more information on directives, please visit the following link: http://www.treasury.gov/resource-center/sanctions/Programs/Pages/ukraine.aspx#directives [UKRAINE-E.O. 13662] (Linked To: OPEN JOINT STOCK COMPANY GAZPROM).

51. YAMALGAZINVEST, ZAO (a.k.a. YAMALGAZINVEST; a.k.a. ZAKRYTOE AKTSIONERNOE OBSHCHESTVO `YAMALGAZINVEST'), d. 41 korp. 1 prospekt Vernadskogo, Moscow 117415, Russia; Web site www.yamalgazinvest.gazprom.ru; Email Address a.alyabev@sever-invest.gazprom.ru; Executive Order 13662 Directive Determination—Subject to Directive 4; Registration ID 1027700154261; Tax ID No. 7728149400; Government Gazette Number 45938198; For more information on directives, please visit the following link: http://www.treasury.gov/resource-center/sanctions/Programs/Pages/ukraine.aspx#directives [UKRAINE-E.O. 13662] (Linked To: OPEN JOINT STOCK COMPANY GAZPROM).

Dated: September 1, 2016.
Andrea M. Gacki,
Acting Director, Office of Foreign Assets Control.

[FR Doc. 2016-21590 Filed 9-7-16; 8:45 am]

BILLING CODE 4810-AL-P